DEPARTMENT OF THE INTERIOR

Bureau of Reclamation

Fish Passage Improvement Project at the Red Bluff Diversion Dam, Tehama County, California

AGENCY: Bureau of Reclamation, Interior.

ACTION: Notice of Availability (NOA) of the Draft Environmental Impact Statement/Environmental Impact Report (DEIS/EIR) and notice of public hearing.

SUMMARY: The Bureau of Reclamation and the Tehama-Colusa Canal Authority (TCCA) have made available for public review and comment the DEIS/EIR for the Fish Passage Improvement Project at the Red Bluff Diversion Dam.

The DEIS/EIR outlines the proposed project alternatives that seek to address issues related to the Red Bluff Diversion Dam, including fish passage and water supply. Current dam operations do not adequately allow passage of threatened and endangered fish species. Additionally, current dam operations create a situation where agricultural demand outstrips the dam's capacity to deliver water. To address these critical issues, TCCA and Reclamation are working together to determine an appropriate solution.

The project goals are to:

• Substantially improve the long-term reliable level of anadromous fish passage, both upstream and downstream, past the Red Bluff Diversion Dam.

• Substantially improve the long-term ability to reliably and cost-effectively move sufficient water into the Tehama-Colusa Canal and the Corning Canal systems to meet the needs of the water districts served by the TCCA.

The TCCA and Reclamation are working together as “co-lead” agencies, sponsoring this project to achieve the same project purpose and need. However, they are independent agencies with various interests and methods for approaching a project such as this one. Work conducted to date has built upon a wide array of previous studies conducted at the dam.

DATES: A public hearing will be held on September 25, 2002, to provide the public with an opportunity to study and comment on environmental issues addressed in the DEIS/EIR. The open house portion of the hearing will be from 4 p.m. to 7 p.m. and will consist of informational displays staffed by project team members who will be answering questions. The formal portion of the hearing will be from 7 p.m. to 8 p.m., where oral comments will be taken by a certified court reporter. Comments will also be taken throughout the meeting via comment sheets.

Comments on the DEIS/DEIR will also be accepted on or before October 29, 2002, in the following formats:

Written—Written comments should be addressed to Mr. Art Bullock, TCCA, at the address below.

Comment Sheets—Comment sheets will be available to all that attend the public hearing, and can be returned at the public hearing, faxed to Mr. Art Bullock, TCCA, at 530-934-2355, or mailed to Mr. Bullock at the below address.

Electronic—Comments may be submitted electronically by e-mailing the project team: tcwaterman@aol.com.

ADDRESSES: The public hearing will be held at the Red Bluff Community Center Gymnasium, 1500 South Jackson, Red Bluff, CA 96080.

Comments on the DEIS/EIR should be sent to Mr. Art Bullock, General Manager, Tehama-Colusa Canal Authority, PO Box 1025, Willows, CA 95988. A copy of the Executive Summary, DEIS/EIR, and/or technical appendices may be obtained by calling Mr. Bullock at the telephone number below.

FOR FURTHER INFORMATION CONTACT: Mr. Art Bullock, Tehama-Colusa Canal Authority, telephone: 530-934-2125, e-mail: tcwaterman@aol.com; or Mr. Max Stodolski, Bureau of Reclamation, telephone: 530-529-3890, fax: 530-529-3895, e-mail: mstodolski@mp.usbr.gov.

SUPPLEMENTARY INFORMATION: Since construction of the Red Bluff Diversion Dam, concern has been expressed regarding the dam's effect on both upstream and downstream fish migration. The dam was built with 11 movable gates. Raising the gates eliminates the dam's effect and allows the river to flow unimpeded. Lowering the dam gates allows for gravity diversion into canals and results in the creation of Lake Red Bluff.

Over the years, the dam gates have been raised more frequently in an attempt to enhance fish passage. Therefore, the ability to divert irrigation water has been gradually decreased from year-round to the current 4-month (gates-in) operations from May 15 to September 14. During the remainder of the year, the dam gates are open, allowing a free flowing, unimpeded river. Detailed studies show the current design of the fish ladders and the operations of the dam gates do not adequately allow passage of threatened and endangered fish species.

The DEIS/EIR addresses impacts related to the proposed alternatives. Through detailed feasibility studies, six alternatives, including the “No action” alternative, have been created to address the identified water delivery and fish passage issues.

The alternatives identified in the DEIS/EIR are:

1. No action—The current operating conditions remain the same with a 4-month dam “gates-in,” that creates Lake Red Bluff from May 15 to September 14. The impacts of this option must be studied to a similar level of detail as the others. It is used as a baseline of comparison for the other alternatives.

2. Bypass—This option creates a fish-friendly channel around the dam with sufficient water flow to attract and transport fish moving upstream and deliver juvenile fish moving downstream when the dam gates are lowered in late summer and early fall. Gates would continue to be lowered in the May 15 to September 14 period. A new pumping station would be required to provide reliable agricultural water supply from the river into the water delivery canals.

3. Improved fish ladders—Two alternatives are being considered and are aimed at improving the efficiency of the “fish ladders” designed to create a passage for fish to swim around the dam. The design improvements will increase the flow of water through the fish ladders. By increasing the flow, more fish will be attracted to the ladders and successfully pass the dam. The two alternatives differ in the operations of the dam gates. One option proposes lowering the dam gates for the current 4-month operation and the other for a 2-month operation (July 1 through August 31). A new pumping station would be required to provide reliable agricultural water supply from the river into the water delivery canals.

4. Existing fish ladders—This alternative retains the current fish ladders and decreases lowering of the dam gates to 2 months (July 1 through August 31). The only source of improved fish passage would be the reduction in gate operations. A new pumping station would be required to provide reliable agricultural water supply from the river into the water delivery canals.

5. Gates out—This option keeps the dam gates open year round, creating a free flowing river, unimpeded by the dam. Fish ladders or other bypass options would no longer be necessary and Lake Red Bluff would no longer be created. A new pumping station would be required to provide reliable agricultural water supply from the river into the water delivery canals.

Additional Information

Additional information is also available at the project Web site: http://www.tccafishpassage.org/.

Comments, including names and home addresses of respondents, will be available for public review. Individual respondents may request that their home address be withheld from public disclosure, which will be honored to the extent allowable by law.

If you wish your name and/or address withheld, you must state this prominently at the beginning of your comment. Submissions from organizations or businesses, and individuals identifying themselves as representatives or officials of organizations or businesses, will be available for public disclosure in their entirety.

Dated: August 14, 2002.
Susan L. Ramos,
Assistant Regional Director.

[FR Doc. 02-22636 Filed 9-4-02; 8:45 am]

BILLING CODE 4310-MN-P